DEPARTMENT OF TRANSPORTATION

Surface Transportation Board

[STB Finance Docket No. 34866 (Sub-No. 2)]

Union Pacific Railroad Company—Temporary Trackage Rights Exemption—The Kansas City Southern Railway Company

The Kansas City Southern Railway Company (KCS), pursuant to a written trackage rights agreement entered into between KCS and Union Pacific Railroad Company (UP), has agreed to grant UP temporary overhead trackage rights, to expire on December 1, 2006, over KCS's trackage between milepost 482.0 on KCS's Mexico Subdivision at Kansas City, MO, and milepost 252.1 on KCS's East St. Louis Terminal Subdivision at Godfrey, IL, a distance of approximately 285 miles. The original grant of temporary overhead trackage rights exempted in Union Pacific Railroad Company—Temporary Trackage Rights Exemption—The Kansas City Southern Railway Company, STB Finance Docket No. 34866 (STB served on May 2, 2006), cover the same line. Those trackage rights were due to expire on July 31, 2006, but were extended to October 31, 2006, in a decision served on July 20, 2006, in the (Sub-No. 1) proceeding in this docket. The purpose of this transaction is to modify the temporary overhead trackage rights previously exempted by extending the expiration date from October 31, 2006, to December 1, 2006.

The transaction was scheduled to be consummated on November 6, 2006, the effective date of the exemption. The purpose of the temporary overhead trackage rights is to facilitate maintenance work on UP lines.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34866 (Sub-No. 2), must be filed with the Surface Transportation Board, 1925 K Street, N.W., Washington, DC 20423-0001. In addition, a copy of each pleading must be served on Gabriel S. Meyer, Assistant General Attorney, Union Pacific Railroad Company, 1400 Douglas Street, STOP 1580, Omaha, NE 68179.

Board decisions and notices are available on our Web site at www.stb.dot.gov.

Decided: November 9, 2006.
By the Board, David M. Konschnik, Director, Office of Proceedings.
Vernon A. Williams,
Secretary.

[FR Doc. E6-19407 Filed 11-16-06; 8:45 am]

BILLING CODE 4915-01-P